DEPARTMENT OF ENERGY

Federal Energy Regulatory Commission

[Docket No. CP08-465-000]

ANR Pipeline Company; Notice of Canceled Site Visit

December 9, 2008.

On December 10, 2008, staff of the Federal Energy Regulatory Commission was scheduled to conduct a site visit of ANR Pipeline Company's proposed Wisconsin 2009 Expansion Project in Janesville, Wisconsin. This notice announces the cancellation of that site visit due to adverse weather conditions.

Please note that this Notice cancels the site visit that was previously announced in the Revised Notice of Site Visit issued on December 4, 2008.

For additional information, please contact the Commission's Office of External Affairs at 1-866-208-FERC.

Kimberly D. Bose,
Secretary.

[FR Doc. E8-29852 Filed 12-16-08; 8:45 am]

BILLING CODE 6717-01-P